OFFICE OF PERSONNEL MANAGEMENT

Notice of Federal Long Term Care Insurance Program Open Season

AGENCY: Office of Personnel Management.

ACTION: Notice of Federal Long Term Care Insurance Open Season.

SUMMARY: The Office of Personnel Management, in conjunction with LTC Partners, LLCˢᵐ, is announcing an Open Season for eligible persons to submit applications for coverage under the Federal Long Term Care Insurance Program (FLTCIP). LTC Partners is an organization formed by John Hancock Life Insurance Company and Metropolitan Life Insurance Company to administer the FLTCIP.

DATES: Open Season will run from July 1 through December 31, 2002.

FOR FURTHER INFORMATION CONTACT: You may call 1-800-LTC-FEDS (1-800-582-3337) (TDD: 1-800-843-3557) or visit www.ltcfeds.com for information on applying during Open Season.

SUPPLEMENTARY INFORMATION: The Long-Term Care Security Act (Pub. L. 106-265) directs the Office of Personnel Management to conduct an Open Season for eligible persons to apply for coverage in the Federal Long Term Care Insurance Program (FLTCIP) no later than October 1, 2002. An early enrollment period was conducted between March 25 and May 15, 2002. Open Season will begin on July 1, 2002 and will continue through December 31, 2002.

LTC Partners has already begun a wide-ranging educational campaign to inform the Federal Family about what long term care is, how long term care insurance can protect against the high cost of long term care, and to explain the various features of the FLTCIP. This campaign will continue throughout the Open Season, and encompasses print media, satellite broadcasts, a web site, toll-free telephone access to long term care insurance specialists, and education meetings.

The specific provisions of the Open Season are as follows:

Eligible persons: Persons eligible to apply for coverage under the FLTCIP are those specified in the Federal Long-Term Care Security Act (5 U.S.C. 9002) as eligible for coverage. The eligible groups are Federal civilian and Postal employees and annuitants; members of the uniformed services; retired members of the uniformed services; their spouses and adult children; and the parents, stepparents, and parents-in-law of employees and members of the uniformed services.

There is no difference in eligibility requirements between early enrollment and the Open Season.

Underwriting requirements: Federal civilian and Postal employees, members of the uniformed services, and their spouses, will be subject to abbreviated underwriting.

Underwriting involves evaluating responses to questions regarding health status and other information. If you apply for the unlimited benefit period, you will be asked additional questions. The underwriting process may also include a review of your medical records and/or a personal interview.

The opportunity for this eligible group to apply with abbreviated underwriting ends on December 31, 2002.

All other eligible persons will be required to submit full underwriting applications. If you are subject to full underwriting, you must answer more questions about your health status. The underwriting process may also include a review of your medical records and/or a personal interview.

Benefits available: During the Open Season, the full array of benefit options will be available. Coverage options available during the Open Season that were not available during early enrollment are:

• A facilities-only plan

• An unlimited benefit period

• A weekly, rather than daily, benefit amount

If you were approved for coverage during early enrollment, you can apply to change your coverage during the Open Season. You must resubmit an application and continue to meet the underwriting requirements for your eligible group.

Billing age: Premiums are based on your age as of July 1, 2002, no matter when during the Open Season you apply. However, if you were approved for coverage during early enrollment, and wish to change coverage during the Open Season, you retain your billing age from early enrollment.

Premiums: Premiums vary depending on your age and the coverage options you choose. LTC Partners will provide premium quotes in print material and on their website at www.ltcfeds.com. You can also call the toll-free number to receive a personalized quote.

Enrollees may pay their premiums in one of three ways:

• Payroll/annuity deduction;

• Automatic deduction from a bank account; or

• Direct bill.

The premiums of a qualified relative may be paid through Federal payroll/annuity deduction, even if the person from whose pay or annuity deductions will be made does not apply (or is not approved) for coverage.

Payroll deduction was not an available option for premium payment during early enrollment. If you enrolled for coverage during early enrollment, you can switch to payroll deduction by calling LTC Partners to request the appropriate form. The form also will be available to download on the web site.

Effective date: The effective date of coverage for an Open Season enrollment is the later of October 1, 2002, or the first day of the month that is after the date LTC Partners approves your application for coverage. A Federal civilian or Postal employee or member of the uniformed services also must be actively at work on the coverage effective date for coverage to become effective.

You must meet all of the following conditions to be considered actively at work:

• You are reporting for work at your usual place of employment or other location to which Government business requires you to travel; and

• You are able to perform all the usual and customary duties of your employment on your regular work-schedule; and

• You are not absent from work due to sickness, injury, annual leave, sick leave or any other leave. (You are not considered to be on leave on your alternate work schedule's scheduled day off.)

For a member of the uniformed services, actively at work means that you are on active duty and are physically able to perform the duties of your position.

If your coverage effective date is on a weekend or holiday, you must be actively at work on the last workday before your coverage effective date for your coverage to become effective. If you are not actively at work on your coverage effective date, you must contact LTC Partners with this information. LTC Partners will give you a revised coverage effective date, which is the first day of the month after you returned to being actively at work. You must meet the actively at work requirement on the revised coverage effective date for coverage to take effect. Your coverage will not go into effect until you meet the actively at work requirement on your coverage effective date.

Authority: 5 U.S.C. 9008.

Office of Personnel Management.
Kay Coles James,
Director.

[FR Doc. 02-16467 Filed 6-26-02; 12:59 pm]

BILLING CODE 6325-50-P